Notice of December 11, 2024

Continuation of the National Emergency With Respect to the Global Illicit Drug Trade

On December 15, 2021, by Executive Order 14059, I declared a national emergency pursuant to the International Emergency Economic Powers Act (50 U.S.C. 1701 et seq.) to deal with the unusual and extraordinary threat to the national security, foreign policy, and economy of the United States constituted by global illicit drug trafficking.

The trafficking into the United States of illicit drugs, including fentanyl and other synthetic opioids, is causing the deaths of tens of thousands of Americans annually, as well as countless more non-fatal overdoses with their own tragic human toll. Drug cartels, transnational criminal organizations, and their facilitators are the primary sources of illicit drugs and precursor chemicals that fuel the current opioid epidemic, as well as drug-related violence that harms our communities. International drug trafficking—including the illicit production, global sale, and widespread distribution of illegal drugs; the rise of extremely potent drugs such as fentanyl and other synthetic opioids; as well as the growing role of internet-based drug sales—continues to pose an unusual and extraordinary threat to the national security, foreign policy, and economy of the United States. For this reason, the national emergency declared in Executive Order 14059 of December 15, 2021, must continue in effect beyond December 15, 2024. Therefore, in accordance with section 202(d) of the National Emergencies Act (50 U.S.C. 1622(d)), I am continuing for 1 year the national emergency declared in Executive Order 14059 with respect to global illicit drug trafficking.

This notice shall be published in the Federal Register and transmitted to the Congress.

THE WHITE HOUSE,

December 11, 2024.

[FR Doc. 2024-29597

Filed 12-12-24; 8:45 am]

Billing code 3395-F4-P